DEPARTMENT OF HEALTH AND HUMAN SERVICES

Administration for Children and Families

Proposed Information Collection Activity; Comment Request

Proposed Projects:

Title: Projects of National Significance—Family Support 360.

OMB No.: New Collection.

Description: The Administration on Developmental Disabilities (ADD), part of the U.S. Department of Health and Human Services (HHS), Administration for Children and Families (ACF), is funding a major Project of National Significance called Family Support 360 (FS 360). As with any program of Federal assistance to the States, it is in the public interest to determine the extent to which it has the desired impacts. To do this job with scientific rigor, it will be necessary to collect high quality survey data from the participants in the 17 funded programs across the nation.

ADD has already designed the instruments, methodologies, procedures, and analytical techniques for this task. Moreover, they have been pilot tested in 11 States. The tools and techniques were submitted for review, and were approved, by Institutional Review Boards for the Protection of Human Subjects (IRB) in those States in which IRB approval was necessary. The tools and techniques were repeatedly revised and improved, then applied successfully, and now they are ready to apply across the nation as soon as Office of Management and Budget (OMB) approval is received.

These instruments and methods are all aimed to answer the elementary scientific outcome questions: Are the participants in the FS 360 programs “better off” because of their participation? If so, how much, in what way(s), and at what public cost?

This information will inform public policy regarding the best methods to deliver important supports to families of people with developmental disabilities.

Respondents: The respondents are the families of and individuals with developmental disabilities who participate in the ADD Family Supports 360 grant programs at 17 sites across the nation. Ten of the sites are focused on military families, and the other seven are focused on civilian families. Each year will consist of a pre and post assessment. For each year we project 680 participating families. Of them we estimate interviews will be completed with 510 or 75 percent (some families may not give informed consent or may miss the appointment for interviews).

Annual Burden Estimates
Instrument | Number of respondents | Number of responses per respondent | Average burden hours per response | Total burden hours
The survey instrument is called the Impact Assessment for Family Support 360 Participants. It does not have a common acronym or ACF report number. It is a very brief two page protocol derived from twenty years of quality of life research in the developmental disabilities field | 680 | 1 | 1.50 | 1,020

Estimated Total Annual Burden Hours: 1,020

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: August 18, 2010
Robert Sargis,
Reports Clearance Officer.

[FR Doc. 2010-20800 Filed 8-20-10; 8:45 am]

BILLING CODE 4184-01-P